FEDERAL COMMUNICATIONS COMMISSION

47 CFR Part 73

[MB Docket No. 13-282; RM-11706; DA 14-1014]

Radio Broadcasting Services; Bruce, Mississippi

AGENCY: Federal Communications Commission.

ACTION: Final rule.

SUMMARY: The Audio Division is reinstating Channel 233A in Bruce, Mississippi, and dismissing the Petition for Rule Making (“Petition”) filed by Telesouth Communications, Inc., proposing the substitution of Channel 284A for vacant Channel 233A for failure to comply with the Commission's rules, and the associated “hybrid” application (“Application”) for Station WTNM (FM) to operate on Channel 234A rather than Channel 288A at Water Valley, Mississippi. We also dismiss the Counterproposal filed by Elijah Mondy, proposing the allotment of Channel 284A at New Houlka, Mississippi, as the community's first local service, for failure to comply with the Commission's rules.

DATES: Effective October 6, 2014.

ADDRESSES: Secretary, Federal Communications Commission, 445 12th Street SW., Washington, DC 20554.

FOR FURTHER INFORMATION CONTACT: Rolanda F. Smith, Media Bureau, (202) 418-2700.

SUPPLEMENTARY INFORMATION: This is a synopsis of the Commission's Report and Order, MB Docket No. 13-282, DA 14-1014, adopted July 17, 2014, and released July 18, 2014. The full text of this document is available for inspection and copying during normal business hours in the FCC's Reference Information Center at Portals II, CY-A257, 445 12th Street SW., Washington, DC 20554. This document may also be purchased from the Commission's duplicating contractors, Best Copy and Printing, Inc., 445 12th Street SW., Room CY-B402, Washington, DC 20554, telephone 1-800-378-3160 or via the Web site www.BCPIWEB.com. This document does not contain information collection requirements subject to the Paperwork Reduction Act of 1995, Public Law 104-13.

Synopsis

The Petition requested the substitution of Channel 284A for vacant Channel 233A at Bruce, Mississippi. Channel 233A at Bruce, Mississippi, a vacant allotment resulting from the cancellation of the license for Station WCMR-FM, is not currently listed in the FM Table of Allotment. Accordingly, we reinstate Channel 233A at Bruce, Mississippi in the FM Table of the Allotments. This action constitutes an editorial change in the FM Table of Allotments. The reference coordinates for Channel 233A at Bruce, Mississippi are 34-01-17 NL and 89-20-06 WL.

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Mississippi, is amended by adding Bruce, Channel 233A.

[FR Doc. 2014-23779 Filed 10-3-14; 8:45 am]

BILLING CODE 6712-01-P